DEPARTMENT OF EDUCATION

Notice of Proposed Information Collection Requests

Correction

In notice document E9-8119 appearing on page 16191 in the issue of Thursday, April 9, 2009, make the following correction:

In the third column, in the eighth line, “Title: .” should read “Title: Federal Perkins Loan Program Master Promissory Note”.

[FR Doc. Z9-8119 Filed 4-17-09; 8:45 am]

BILLING CODE 1505-01-D